DEPARTMENT OF TRANSPORTATION

Federal Railroad Administration

[Docket No. FRA-2010-0060]

Norfolk Southern Railway Company's Request for Positive Train Control Safety Plan Approval and System Certification

AGENCY: Federal Railroad Administration (FRA), U.S. Department of Transportation (DOT).

ACTION: Notice of availability and request for comments.

SUMMARY: This document provides the public with notice that on August 12, 2016 Norfolk Southern Railway Company (NS) submitted to FRA its Positive Train Control Safety Plan (PTCSP) Version 1.0, dated August 12, 2016, on FRA's Secure Information Repository (SIR) site. NS asks FRA to approve its PTCSP and issue a Positive Train Control System Certification for NS's Interoperable Electronic Train Management System (I-ETMS), under 49 CFR part 236, subpart I.

DATES: FRA will consider communications received by November 30, 2016 before taking final action on the PTCSP. FRA may consider comments received after that date if practicable.

ADDRESSES: All communications concerning this proceeding should identify Docket Number FRA 2010-0060 and may be submitted by any of the following methods:

• Web site: http://www.regulations.gov. Follow the online instructions for submitting comments.

• Fax: 202-493-2251.

• Mail: Docket Operations Facility, U.S. Department of Transportation (DOT), 1200 New Jersey Avenue SE., W12-140, Washington, DC 20590.

• Hand Delivery: 1200 New Jersey Avenue SE., Room W12-140, Washington, DC 20590, between 9 a.m. and 5 p.m., Monday through Friday, except Federal Holidays.

FOR FURTHER INFORMATION CONTACT: Dr. Mark Hartong, Senior Scientific Technical Advisor, at (202) 493-1332 or Mark.Hartong@dot.gov; or Mr. David Blackmore, Staff Director, Positive Train Control Division, at (312) 835-3903 or David.Blackmore@dot.gov.

SUPPLEMENTARY INFORMATION: In its PTCSP, NS states the I-ETMS system it is implementing is designed as a vital overlay PTC system as defined in 49 CFR 236.1015(e)(2). The PTCSP describes NS's I-ETMS implementation and the associated I-ETMS safety processes, safety analyses, and test, validation, and verification processes used during the development of I-ETMS. The PTCSP also contains NS's operational and support requirements and procedures.

NS's PTCSP and the accompanying request for approval and system certification are available for review online at www.regulations.gov (Docket Number FRA-2010-0060) and in person at DOT's Docket Operations Facility, 1200 New Jersey Avenue SE., W12-140, Washington, DC 20590. The Docket Operations Facility is open from 9 a.m. to 5 p.m., Monday through Friday, except Federal Holidays.

Interested parties may comment on the PTCSP by submitting written comments or data. During its review of the PTCSP, FRA will consider any comments or data submitted. However, FRA may elect not to respond to any particular comment and, under 49 CFR 236.1009(d)(3), FRA maintains the authority to approve or disapprove the PTCSP at its sole discretion. FRA does not anticipate scheduling a public hearing regarding NS's PTCSP because the circumstances do not appear to warrant a hearing. If any interested party desires an opportunity for oral comment, the party should notify FRA in writing before the end of the comment period and specify the basis for his or her request.

Privacy Act Notice

Anyone can search the electronic form of any written communications and comments received into any of our dockets by the name of the individual submitting the comment (or signing the document, if submitted on behalf of an association, business, labor union, etc.). Under 49 CFR 211.3, FRA solicits comments from the public to better inform its decisions. DOT posts these comments, without edit, including any personal information the commenter provides, to www.regulations.gov, as described in the system of records notice (DOT/ALL-14 FDMS), which you can review at www.dot.gov/privacy. See https://www.regulations.gov/privacyNotice for the privacy notice of regulations.gov.

Issued in Washington, DC, on October 25, 2016.
Robert C. Lauby,
Associate Administrator for Railroad Safety, Chief Safety Officer.

[FR Doc. 2016-26146 Filed 10-28-16; 8:45 am]

BILLING CODE 4910-06-P